DEPARTMENT OF COMMERCE

Foreign-Trade Zones Board

[B-36-2018]

Foreign-Trade Zone 25—Broward County, Florida; Application for Reorganization and Expansion Under Alternative Site Framework

An application has been submitted to the Foreign-Trade Zones (FTZ) Board by the County of Broward, Florida, grantee of FTZ 25, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 30, 2018.

FTZ 25 was approved by the FTZ Board on December 27, 1976 (Board Order 113, 42 FR 61, January 3, 1977) and expanded on August 11, 1978 (Board Order 132, 43 FR 36989, August 21, 1978); on October 10, 1991 (Board Order 537, 56 FR 52510, October 21, 1991); on March 18, 2005 (Board Order 1382, 70 FR 15836, March 29, 2005); and, on August 27, 2009 (Board Order 1645, 74 FR 46571, September 10, 2009).

The current zone includes the following sites: Site 1 (88.8 acres)—Port Everglades, 3400/3401 McIntosh Road, Hollywood; Site 2 (14.26 acres)—Westport Business Park, 2501/2525/2555/2600 Davie Road, Davie; Site 3 (90.957 acres)—Miramar Park of Commerce, 9786/9850/9900/10044 Premier Parkway, 2700/2701 Executive Way, 10301-10431 N Commerce Parkway, 10101-10151 Business Drive, 11220-11330 & 11340-11660 Interchange Circle North, and 11219-11331 & 11341-11661 Interchange Circle South in Miramar; Site 4 (18 acres)—2696 NW 31st Avenue, Lauderdale Lakes; Site 5 (37.165 acres)—2650 SW 14th Avenue, Miramar; Site 6 (26 acres)—3200 West Oakland Park Boulevard, Lauderdale Lakes; Site 7 (1 acre)—35 SW 12th Avenue, Dania Beach; Site 8 (9 acres)—2200-2300 SW 45th St., Dania Beach; Site 9 (6 acres)—375 NW 9th Avenue, Dania Beach; Site 10 (13 acres)—3435-3699 NW 19th St., Lauderdale Lakes; Site 11 (52 acres)—1141 South Andrews Ave., Pompano Beach; Site 13 (7.825 acres)—Oakland Park Station, 1201 NE 38th Street, Oakland Park; Site 14 (10 acres)—1800 SW 34th Street, Fort Lauderdale; Site 15 (.967 acres)—2780 South Park Road, Pembroke Park; Site 16 (.14 acres)—1241 Stirling Road, Units 110, 111, 116 and 117, Dania Beach; Site 17 (5 acres)—3205 SE 19th Avenue, Fort Lauderdale; Site 18 (3.5 acres)—1601 Green Road, Deerfield Beach; Site 19 (2.75 acres)—1900 SW 43rd Terrace, Deerfield Beach; and, Site 20 (3.156 acres)—1802 SW 2nd Street, Pompano Beach.

The grantee's proposed service area under the ASF would be Broward County, Florida, as described in the application. If approved, the grantee would be able to serve sites throughout the service area based on companies' needs for FTZ designation. The application indicates that the proposed service area is within and adjacent to the Port Everglades Customs and Border Protection port of entry.

The applicant is requesting authority to reorganize its existing zone to include all of the existing sites as “magnet” sites. The applicant is also requesting to expand Site 1 from 88.8 acres to 132 acres. The ASF allows for the possible exemption of one magnet site from the “sunset” time limits that generally apply to sites under the ASF, and the applicant proposes that Site 1 (as modified) be so exempted. The application would have no impact on FTZ 25's previously authorized subzones.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is August 6, 2018. Rebuttal comments in response to material submitted during the foregoing period may be submitted during the subsequent 15-day period to August 20, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Qahira El-Amin at Qahira.El-Amin@trade.gov or (202) 482-5928.

Dated: May 30, 2018.
Andrew McGilvray,
Executive Secretary.

[FR Doc. 2018-12146 Filed 6-5-18; 8:45 am]

BILLING CODE 3510-DS-P